INTERNATIONAL TRADE COMMISSION

Privacy Act of 1974; Systems of Records

AGENCY: United States International Trade Commission.

ACTION: Notice of new and modified systems of records.

SUMMARY: The Commission issues this notice to satisfy the Privacy Act's requirement to publish notice of the existence and character of records systems maintained by the Commission and of any new use or intended use of information in the Commission's systems of records.

The U.S. International Trade Commission (“Commission”) proposes to add the following four new systems of records: (1) Roster of Mediators. This system contains records of individuals selected as roster members to serve as potential mediators as part of the Commission's mediation program. Records in this system are used to identify potential mediators for participation in the Commission's mediation program. (2) Personnel Photograph Records. This system contains photographs of Commission personnel. Records in this system are used to enhance the security of the Commission's building, educate the public, assist Commission personnel in interfacing with customers and the public, and promote open and collaborative electronic communication with Commission personnel. (3) Employment Law Records. This system contains documents relating to employment law matters including adverse actions, grievances, unfair labor practice charges, civil actions against Commission employees in their official capacities, and employee claims. (4) Freedom of Information Act and Privacy Act Records. This system contains correspondence and other documents relating to FOIA and Privacy Act requests and administrative appeals.

The Commission proposes to revise the following thirteen existing systems of records: (1) Pay and Leave Records. This system contains payroll and personnel information. These records are used for the purposes of administering pay and leave, activity accounting, and budget preparation, and are used to prepare related reports to other Federal agencies. (2) Grievance Records. This system contains records of grievances filed by Commission employees under 5 CFR part 771, 5 U.S.C. 7121, or under negotiated grievance procedures. (3) Telephone Call Detail Records. This system contains records relating to the location of Commission telephones, the assignment of telephone numbers to employees, the use of Commission mobile devices, and the use of Commission telephones to place long-distance telephone calls or facsimile transmissions. (4) Security Access Records. This system contains records relating to the assignment and use of electronic security keys at the Commission and records identifying visitors to the Commission building. (5) Personnel Security Investigative Files. This system contains personnel security investigative records pertaining to current and former employees, applicants for employment including interns and volunteers, and contractors, subcontractors, and consultants. The records in this system are used to make national security, suitability, fitness, and HSPD-12 credentialing determinations; provide a current record of Commission employees with security clearance(s); and provide access cards and keys to Commission buildings and offices. (6) Library Circulation Records. Records in this system pertain to individuals with borrowing privileges, who have borrowed materials from the Main Library. Records are used to locate Main Library materials in circulation and to control and inventory borrowed materials. (7) Parking and Mass Transit Subsidy Records. Records in this system pertain to individuals who participate in the Commission mass transit and car pool subsidy programs. These records are used to allocate and control agency-subsidized parking spaces and mass transit subsidies, assist in creating car pools, and ensure that employees qualify for subsidized parking spaces or mass transit subsidies. (8) Congressional Correspondence Records. Records in this system pertain to Members of Congress and their constituents. These records are used to respond to Congressional inquiries and inform Congress about Commission activities. (9) System Access Records. This system contains information pertaining to a computer user's access to Commission computers and other information technology resources. It also includes records relating to name, address, country, telephone number, fax number, email address, employer type, agency or firm name, the computer's Internet protocol addresses, and account number gathered while accessing the Commission's internet and intranet Web sites. (10) Administrative Protective Order Breach and Related Records. The records in this system are used to determine whether a person has breached an administrative protective order and/or should be sanctioned. The records relate to a person's name, firm, address, the basis for the investigation, the Commission's determinations with respect to the facts of the investigation, and any sanctions or other actions taken in response to the agency's determinations. (11) Import and Export Records. This system contains records relating to an importer's, exporter's, or producer's name, organization, title or position, business role, address, telephone number, electronic mail address, Web site address, and Dun's number, as well as quantity and value information on imports and exports. Some contact information is for the homes of individuals. (12) Telecommuting Program Records. Records in this system pertain to individuals who participate in the Commission telecommuting program. These records are used to administer the program and may be used to monitor employee compliance with telecommuting procedures. (13) Emergency Notification Records. These records are maintained to notify and identify Commission employees or their designees under emergency conditions.

DATES: Written comments must be received by the Secretary to the Commission no later than October 27, 2017. The proposed revision to the Commission's systems of records will become effective on that date unless otherwise published in the Federal Register.

ADDRESSES: You may submit comments, identified by docket number MISC-043, by any of the following methods:

—Federal eRulemaking Portal: https://www.regulations.gov. Follow the instructions for submitting comments.

—Agency Web site: https://edis.usitc.gov. Follow the instructions for submitting comments on the Web site.

—Mail: For paper submission. U.S. International Trade Commission, 500 E Street SW., Room 112A, Washington, DC 20436.

—Hand Delivery/Courier: U.S. International Trade Commission, 500 E Street SW., Room 112A, Washington, DC 20436. From the hours of 8:45 a.m. to 5:15 p.m.

Instructions: All submissions received must include the agency name and docket number (MISC-043), along with a cover letter. Persons filing comments must file the original document electronically on https://edis.usitc.gov; any personal information provided will be viewable by the public. For paper copies, a signed original and 8 copies of each set of comments should be submitted to Lisa R. Barton, Secretary, U.S. International Trade Commission, 500 E Street SW., Room 112A, Washington, DC 20436.

For access to the docket to read background documents or comments received, go to https://edis.usitc.gov. and/or the U.S. International Trade Commission, 500 E Street SW., Room 112A, Washington, DC 20436.

FOR FURTHER INFORMATION CONTACT: Clara Kuehn, Office of the General Counsel, U.S. International Trade Commission, 500 E Street SW., Washington, DC 20436, tel. 202-205-3012. Hearing-impaired persons can obtain information on this matter by contacting the Commission's TDD terminal on 202-205-1810. Persons with mobility impairments who will need special assistance in gaining access to the Commission should contact the Office of the Secretary at 202-205-2000.

SUPPLEMENTARY INFORMATION: Under the Privacy Act of 1974 (“Privacy Act”), 5 U.S.C. 552a, the Commission proposes to add the description of four new systems of records and revise the descriptions of thirteen existing systems of records. The Commission invites interested persons to submit comments on the actions proposed in this notice.

The Commission proposes to add a new system of records entitled ITC-17 (Roster of Mediators). The Commission has established a mediation program for disputes brought pursuant to section 337 of the Tariff Act of 1930 (19 U.S.C. 1337). The Commission will maintain a list of potential mediators and information on potential candidates which may include home and business addresses, telephone and facsimile numbers, electronic mail addresses, and certain financial information (for determinations concerning potential conflicts of interest).

The Commission proposes to add a new system of records entitled ITC-18 (Personnel Photograph Records). The Commission takes photographs of Commission personnel, including employees, Commissioners, and administrative law judges for such purposes as providing information to the public, promoting open and collaborative communication with Commission personnel, and ensuring physical security of agency office space. These photographs are maintained together with the names and titles of the pictured individuals.

The Commission proposes to add a new system of records entitled ITC-19 (Employment Law Records). This system will cover records maintained mostly in the Office of the General Counsel that pertain to employment law matters, including adverse actions, grievances, unfair labor practice charges, civil actions against Commission employees in their official capacities, and Equal Employment Opportunity and other employee claims.

The Commission proposes to add a new system of records entitled ITC-20 (Freedom of Information Act and Privacy Act Records). This system will cover records pertaining to FOIA and Privacy Act requests and administrative appeals. These records are used to monitor, process, and track requests and appeals made under those statutes; support litigation arising from such requests and appeals; assign, process, and track FOIA workloads; and provide management information reports.

The Commission proposes to revise the system of records entitled ITC-1 (Pay & Leave Records) to clarify the location of the system, and to provide additional detail on the pay and personnel information contained in the system, such as by adding references to fitness service use logs and relocation expense authorizations and amounts. The Commission is also clarifying that the purpose of the system includes not only administering pay and leave, activity accounting, and budget preparation, but also preparing related reports to other Federal agencies. The Commission is also adding routine uses for the disclosure of information from this system in accordance with the Personal Responsibility and Work Opportunity Reconciliation Act, for unemployment and health insurance purposes, for the collection of debts owed to the Federal Government, and to another Federal agency to which an employee has transferred.

The Commission proposes to revise the system of records entitled ITC-2 (Grievance Records) by expanding the purposes of the system to include ensuring consistent treatment of similarly situated individuals. As revised, this system will cover records of grievances filed by employees that are maintained in the Office of Administrative Services and in the office where the grievance originated.

The Commission proposes to revise the system of records entitled ITC-5 (Telephone Call Detail Records) to include records pertaining to the assignment and use of Commission mobile devices and to update the description of the retrievability of records in the system to include by name and mobile device number.

The Commission proposes to revise the system of records entitled ITC-6 (Security Access Records) to clarify the location of the system, to provide additional detail on the security key records contained in the system, to update references to visitor records contained in the system, and to clarify that the purpose of the system is to restrict and authorize physical access to Commission facilities.

The Commission proposes to revise the system of records entitled ITC-7 (Personnel Security Investigative Files) to clarify the location of the system, to expand the purpose of the system to include making suitability, fitness, and HSPD-12 credentialing determinations, to expand the categories of covered individuals to include interns and volunteers, to provide additional detail on the categories of records in the system, to expand the description of the retrievability of records to include by Social Security number, and to add routine uses for disclosures to the Office of Management and Budget (OMB) and to enable intelligence agencies to carry out their responsibilities under certain authorities.

The Commission proposes to revise the system of records entitled ITC-8 (Library Circulation Records) to cover additional individuals with borrowing privileges from the Main Library, such as contractors.

The Commission proposes to revise the system of records entitled ITC-9 (Parking and Mass Transit Subsidy Records) to clarify the location of the system, to provide additional detail on the categories of records contained in the system, and to expand the description of the retrievability of records in the system to include by parking permit number.

The Commission proposes to revise the system of records entitled ITC-11 (Congressional Correspondence Records) to clarify the location of the system, to add constituents of Members of Congress to the categories of individuals covered by the system, to clarify the categories of records contained in the system, to expand the description of the retrievability of records in the system to include by the name of the Chairman of a Congressional committee or subcommittee, to add a routine use for disclosure to the National Archives and Records Administration or General Services Administration for records management purposes, to add a routine use for disclosure to agency contractors and others engaged to assist the agency with an activity necessitating access to this system, and to add a routine use for disclosure to the public through the Commission's Web site.

The Commission proposes to rename the system of records ITC-12 (Computer Access Records) to ITC-12 (System Access Records). The Commission proposes to revise this system of records to clarify the categories of covered individuals and to add additional details to the categories and description of the retrievability of records in the system to reflect current practice.

The Commission proposes to revise the system of records entitled ITC-13 (Administrative Protective Order Breach and Related Records) to clarify the location of the system, to expand the description of the retrievability of records in the system to include by administrative protective order breach identification number, and to modify an existing routine use to permit disclosure of information to other persons subject to the same breach investigation of whether there is good cause to sanction persons under 19 CFR 201.15.

The Commission proposes to revise the system of records entitled ITC-14 (Import and Export Records) to include in the categories of information in the system that some contact information is for residential addresses of individuals and add routine uses for disclosure to representatives of parties to investigations under judicial protective order and to certain tribunals and U.S. courts.

The Commission proposes to revise the system of records entitled ITC-15 (Telecommuting Program Records) to clarify the location of the system and the categories of records in the system.

The Commission proposes to revise the system of records entitled ITC-16 (Emergency Notification Records) to clarify the categories of records in the system.

The Commission proposes to revise all systems of records to add data elements provided for in the Document Drafting Handbook of the Office of the Federal Register, to provide more detail on the safeguards used to protect information, and to make additional clarifying changes. Where necessary, addresses are being changed to reflect the Commission's current organization and its arrangements with contractors, records retention and disposal practices are being updated, and a requirement is being removed so that a requester will no longer need to provide a date of birth when making an inquiry or requesting an amendment to a record in any system.

By Memorandum M-07-16, “Safeguarding Against and Responding to the Breach of Personally Identifiable Information,” OMB called on agencies to publish a routine use for the disclosure of information in connection with response and remedial efforts in the event of a data breach. On January 3, 2017, OMB issued Memorandum M-17-12, which updated breach notification policies and guidelines, rescinded M-07-16, and directed agencies to include two routine uses in each agency SORN to facilitate agencies' response to breaches of their own records and to ensure that agencies are able to disclose records that may reasonably be needed by another agency in responding to a breach. These new routine uses will serve to protect the interest of the individual or individuals whose information is at issue by allowing agencies to take steps to facilitate a timely and effective response to the breach. Accordingly, the Commission proposes to add these new routine uses, applicable to all Commission systems of records, to authorize the disclosure, in the event of a suspected or confirmed breach, to certain agencies, entities, and persons of information maintained in the systems.

The Commission also proposes to clarify that an existing routine use, applicable to many Commission systems of records, permits disclosure of records to and use by the Department of Justice in litigation under certain circumstances.

The Commission also proposes to clarify that an existing general routine use permitting disclosure to agency contractors and Federal agencies providing services to the Commission also allows disclosure when information security services are being provided.

Attachment A is a list of the general routine uses applicable to more than one system of records.

Attachment B is an updated list of the government-wide systems of records, noticed by other agencies, applicable to the Commission.

As required by subsection 552a(r) of the Privacy Act of 1974 (5 U.S.C. 552a(r)), the proposed revisions will be reported to the Office of Management and Budget, the Chair of the Committee on Oversight and Government Reform of the House of Representatives, and the Chair of the Committee on Homeland Security and Governmental Affairs of the Senate.

Table of Contents

ITC-1 Pay and Leave Records

ITC-2 Grievance Records

ITC-3 [Reserved]

ITC-4 [Reserved]

ITC-5 Telephone Call Detail Records

ITC-6 Security Access Records

ITC-7 Personnel Security Investigative Files

ITC-8 Library Circulation Records

ITC-9 Parking and Mass Transit Subsidy Records

ITC-10 [Reserved]

ITC-11 Congressional Correspondence Records

ITC-12 System Access Records

ITC-13 Administrative Protective Order Breach and Related Records

ITC-14 Import and Export Records

ITC-15 Telecommuting Program Records

ITC-16 Emergency Notification Records

ITC-17 Roster of Mediators

ITC-18 Personnel Photograph Records

ITC-19 Employment Law Records

ITC-20 Freedom of Information Act and Privacy Act Records

Appendix A: General Routine Uses Applicable to More Than One System of Records

Appendix B: Government-Wide Systems of Records Applicable to the Commission

ITC-1

SYSTEM NAME AND NUMBER:

ITC-1 Pay and Leave Records.

SECURITY CLASSIFICATION:

None.

SYSTEM LOCATION:

1. Payroll, attendance, leave, retirement, and benefits records for current employees are located in the Office of Human Resources, U.S. International Trade Commission, 500 E Street SW., Washington, DC 20436. The Commission has an interagency agreement with the U.S. Department of the Interior, Interior Business Center (DOI/IBC), 7301 West Mansfield Avenue, MS-D-2210, Lakewood, CO 80235-2230, to maintain electronic personnel information and perform payroll and personnel processing activities for its employees.

2. Records relating to the Health and Fitness Program are maintained in the Office of Security and Support Services, U.S. International Trade Commission, 500 E Street SW., Washington, DC 20436.

3. Records relating to relocation expenses are maintained in the Office of Finance, U.S. International Trade Commission, 500 E Street SW., Washington, DC 20436.

4. Records relating to the Student Loan Reimbursement Program and waivers of recovery of overpayment debt are maintained in the Office of Human Resources, U.S. International Trade Commission, 500 E Street SW., Washington, DC 20436.

5. Records relating to the Labor Cost Code Database (Activity Accounting) are maintained by the Office of Finance, U.S. International Trade Commission, 500 E Street SW., Washington, DC 20436.

6. Retired Personnel Files are located at the National Archives and Records Administration National Personnel Records Center (Civilian Personnel Records Center), 111 Winnebago Street, St. Louis, MO 63118.

Duplicate systems may exist, in part, for administrative purposes in the office to which the employee is assigned.

SYSTEM MANAGER(S):

For Health and Fitness Program Reimbursement Claims, Director, Office of Security and Support Services, U.S. International Trade Commission, 500 E Street SW., Washington, DC 20436. For relocation expenses and Labor Cost Code Database (Activity Accounting), Director, Office of Finance, U.S. International Trade Commission, 500 E Street SW., Washington, DC 20436.

For all other payroll and leave records, including Student Loan Reimbursement Program Claims and waivers of recovery of overpayment debt, Director, Office of Human Resources, U.S. International Trade Commission, 500 E Street SW., Washington, DC 20436.

AUTHORITY FOR MAINTENANCE OF THE SYSTEM:

Authority for maintenance of the system includes the following with any revisions or amendments: 5 U.S.C. Chapters 53, 55, 61, and 63; and Executive Order 9397.

PURPOSE(S) OF THE SYSTEM:

These records are used for the purposes of administering pay and leave, activity accounting, and budget preparation; and to prepare related reports to other Federal agencies.

CATEGORIES OF INDIVIDUALS COVERED BY THE SYSTEM:

All current and former Commission employees.

CATEGORIES OF RECORDS IN THE SYSTEM:

This system contains payroll and personnel information. This includes information such as: Name; title; date of birth; home address; Social Security number; telephone number; W-2 address; grade; employing organization; timekeeper number; salary; pay plan; number of hours worked; leave accrual rate, usage, and balances; compensatory time; credit hours; activity accounting reports; Civil Service Retirement and Federal Retirement System contributions; FICA withholdings; Federal, State, and local tax withholdings; Federal Employee's Group Life Insurance withholdings; Federal Employee's Health Benefits withholdings; charitable deductions; allotments to financial organizations; levy, garnishment, and salary and administrative offset documents; savings bonds allotments; union and management association dues withholding allotments; Combined Federal Campaign and other allotment authorizations; direct deposit information; information on the leave transfer program; tax fringe benefits; health and fitness program designation and cost; fitness program reimbursement amounts; fitness services use logs; student loan lenders' names and addresses; student loan account numbers; student loan account balances; and relocation expense authorizations and amounts. The payroll, retirement and leave records described in this notice form a part of the information contained in the DOI/IBC integrated Federal Personnel and Payroll System (FPPS). Personnel records contained in the FPPS are covered under the government-wide system of records notice published by the Office of Personnel Management (OPM/GOVT-1).

RECORD SOURCE CATEGORIES:

Information in this system is obtained from official personnel documents, the individual to whom the record pertains, and Commission officials responsible for pay, leave, relocation expense justifications and authorizations, and activity reporting requirements.

ROUTINE USES OF RECORDS MAINTAINED IN THE SYSTEM, INCLUDING CATEGORIES OF USERS AND PURPOSES OF SUCH USES:

General Routine Uses A-K and M-N apply to this system.

Data in this system may be transmitted electronically by the Commission to the DOI/IBC, which provides payroll and personnel processing services under an interagency agreement. The Commission and the U.S. Department of the Interior may disclose relevant portions of records in this system as necessary to the following: (a) To the Treasury Department for issuance of pay checks; (b) to the Treasury Department for issuance of savings bonds; (c) to OPM for retirement, health, and life insurance purposes, and to carry out OPM's Government-wide personnel management functions; (d) to the Federal Retirement Thrift Investment Board with respect to Thrift Savings Fund contributions; (e) to the Social Security Administration for reporting wage data in compliance with the Federal Insurance Compensation Act; (f) to the Internal Revenue Service and to State and local tax authorities for tax purposes, including reporting of withholding, audits, inspections, investigations, and similar tax activities; (g) to the Combined Federal Campaign for charitable contribution purposes; (h) to officials of labor organizations recognized under 5 U.S.C. Chapter 71 for the purpose of identifying Commission employees contributing union dues each pay period and the amount of dues withheld; (i) to designated student loan lenders for repayment of federally insured student loans; (j) the names, Social Security numbers, home addresses, dates of birth, dates of hire, quarterly earnings, employer identifying information, and State of hire of employees may be disclosed to the Office of Child Support Enforcement, Administration for Children and Families, Department of Health and Human Services for the purpose of locating individuals to establish paternity, establishing and modifying orders of child support, identifying sources of income, and for other child support enforcement actions as required by the Personal Responsibility and Work Opportunity Reconciliation Act (Welfare Reform law, Pub. L. 104-193); (k) to another Federal agency to which an employee has transferred; (l) to appropriate Federal and State agencies to provide required reports including data on unemployment insurance; (m) to insurance carriers to report withholdings for health insurance; (n) to a Federal agency for the purpose of collecting a debt owed the Federal government through administrative or salary offset; (o) to disclose debtor information to the Internal Revenue Service, or to another Federal agency or its contractor solely to aggregate information for the Internal Revenue Service, to collect debts owed to the Federal government through the offset of tax refunds. Relevant information in this system may be disclosed as necessary to other Federal agencies or Federal contractors with statutory authority to assist in the collection of Commission debts.

Disclosures may be made from this system pursuant to 5 U.S.C. 552a(b)(12) and 31 U.S.C. 3711(e) to “consumer reporting agencies” as defined in 31 U.S.C. 3701(a)(3).

POLICIES AND PRACTICES FOR STORAGE OF RECORDS:

Records at the Commission are maintained on paper in file folders and internal Commission electronic information systems. DOI/IBC maintains records in this system in accordance with an interagency agreement.

POLICIES AND PRACTICES FOR RETRIEVAL OF RECORDS:

These records are retrieved by the name and Social Security number of the individuals on whom they are maintained.

POLICIES AND PRACTICES FOR RETENTION AND DISPOSAL OF RECORDS:

Payroll and salary and administrative offset records are retained in accordance with the National Archives and Records Administration (NARA) General Records Schedule (GRS) 2 (various items). Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88). DOI/IBC manages and disposes of Commission records in this system under the interagency agreement in accordance with this notice and applicable General Records Schedule 2 items.

ADMINISTRATIVE, TECHNICAL, AND PHYSICAL SAFEGUARDS:

IBC/DOI information systems hosting Commission data under the interagency agreement are compliant with Federal information technology (IT) security requirements, including assessment and authorization, and Federal Information Security Modernization Act (FISMA) reporting. On these systems, security controls (e.g., physical, logical, and personnel controls) are designed to provide reasonable assurance that IT resources (including data files, application programs, and computer-related facilities and equipment) are protected against unauthorized modification, disclosure, loss, or impairment.

At the Commission, access to the records in this system is limited to persons whose official duties require access, such as individuals who validate and certify employee timecards and personnel in the Office of Human Resources for personnel and payroll processing. Paper records in this system are maintained in a building with restricted public access, patrolled by guards. Both standard and electronic locks are used to restrict access. The paper records in this system are kept in limited access areas within the building, in locked file cabinets or in file cabinets in locked offices. Commission electronic information systems, like IBC/DOI systems, are subject to Federal IT security requirements. Electronic records in this system that are maintained on internal Commission electronic information systems may be accessed only by individuals whose official duties require access through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment; and

3. Signature.

CONTESTING RECORD PROCEDURES:

Individuals requesting access must comply with the Commission's Privacy Act regulations on verification of identity (19 CFR 201.25).

Individuals wishing to request amendment of their records should contact the Privacy Act Officer, Office of the Secretary, U.S. International Trade Commission, 500 E Street SW., Washington, DC 20436. Individuals must furnish the following information for their records to be located and identified:

1. Full name(s);

2. Dates of employment; and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment; and

3. Signature.

EXEMPTIONS PROMULGATED FOR THE SYSTEM:

None.

HISTORY:

71 FR 35294 (June 19, 2006).

ITC-2

SYSTEM NAME AND NUMBER:

ITC-2 Grievance Records.

SECURITY CLASSIFICATION:

None.

SYSTEM LOCATION:

Office of Administrative Services and the office where the grievance originated, U.S. International Trade Commission, 500 E Street SW., Washington, DC 20436.

SYSTEM MANAGER(S):

If the grievance is pending at or was never raised beyond the office level, the system manager is the head of the office; otherwise, the system manager is the Chief Administrative Officer, Office of Administration, U.S. International Trade Commission, 500 E Street SW., Washington, DC 20436.

AUTHORITY FOR MAINTENANCE OF THE SYSTEM:

Authority for maintenance of the system includes the following with any revisions or amendments: 5 U.S.C. 7121; 5 CFR part 771.

PURPOSE(S) OF THE SYSTEM:

These records are used to process grievances submitted by Commission employees for relief in a matter of concern or dissatisfaction which is subject to the control of agency management, to ensure consistent treatment of similarly situated individuals, and to provide individuals who submit grievances with a copy of their records in accordance with the grievance process.

CATEGORIES OF INDIVIDUALS COVERED BY THE SYSTEM:

All current and former Commission employees who have submitted grievances in accordance with part 771 of the regulations of the Office of Personnel Management (the “OPM”) (5 CFR part 771), under 5 U.S.C. 7121, or through a negotiated grievance procedure.

CATEGORIES OF RECORDS IN THE SYSTEM:

This system contains records of grievances filed by agency employees under part 771 of regulations issued by the OPM, under 5 U.S.C. 7121 or under negotiated grievance procedures. These case files contain all documents made part of the grievance files, including statements of witnesses, reports of interviews and hearings, examiner's findings and recommendations, a copy of the original and final decisions, and related correspondence and exhibits. The system includes files and records of internal grievance and arbitration systems established through negotiations with recognized labor organizations.

RECORD SOURCE CATEGORIES:

Information in this system of records is obtained from:

a. The individual filing the grievance;

b. The testimony of witnesses;

c. Agency and union officials; and

d. Related correspondence from organizations or persons.

ROUTINE USES OF RECORDS MAINTAINED IN THE SYSTEM, INCLUDING CATEGORIES OF USERS AND PURPOSES OF SUCH USES:

General Routine Uses A-C and E-N apply to this system.

Information in this system may be disclosed as necessary to other Federal agencies or Federal contractors with statutory authority to assist in the collection of Commission debts.

Disclosures may be made from this system pursuant to 5 U.S.C. 552a(b)(12) and 31 U.S.C. 3711(e) to “consumer reporting agencies” as defined in 31 U.S.C. 3701(a)(3).

POLICIES AND PRACTICES FOR STORAGE OF RECORDS:

These records are maintained on internal Commission electronic information systems and on paper in file folders.

POLICIES AND PRACTICES FOR RETRIEVAL OF RECORDS:

These records are retrieved by the names of the individuals on whom they are maintained.

POLICIES AND PRACTICES FOR RETENTION AND DISPOSAL OF RECORDS:

Records are retained in accordance with NARA GRS 1, item 30a: Administrative Grievance Files. Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

Access to this system of records is limited to persons who have a need to know the information for the performance of their official duties, such as individuals involved in adjudicating grievances. Paper records in this system are maintained in locked file cabinets or file cabinets in locked offices. The file cabinets are maintained in a building with restricted public access, patrolled by guards. Both standard and electronic locks are used to restrict access. The electronic records in this system may only be accessed by authorized individuals through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment;

3. Approximate date of closing of the case (if applicable); and

4. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment;

3. Approximate date of closing of the case (if applicable); and

4. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment; and

3. Signature.

EXEMPTIONS PROMULGATED FOR THE SYSTEM:

None.

HISTORY:

71 FR 35294 (June 19, 2006).

ITC-3

[Reserved]

ITC-4

[Reserved]

ITC-5

SYSTEM NAME AND NUMBER:

ITC-5 Telephone Call Detail Records.

SECURITY CLASSIFICATION:

None.

SYSTEM LOCATION:

Office of the Chief Information Officer, U.S. International Trade Commission, 500 E Street SW., Washington, DC 20436; General Services Administration, 13221 Woodland Park Rd., Herndon, VA 22071; CenturyLink, Customer Service, DEPT COOR, 6000 Parkwood Place, Dublin, OH 43016; Verizon Wireless, P.O. Box 4003, Acworth, GA 30101.

SYSTEM MANAGER(S):

Office of the Chief Information Officer, U.S. International Trade Commission, 500 E Street SW., Washington, DC 20436.

AUTHORITY FOR MAINTENANCE OF THE SYSTEM:

Authority for maintenance of the system includes the following with any revisions or amendments: 19 U.S.C. 1331(a)(1)(A)(iii).

PURPOSE(S) OF THE SYSTEM:

Records in this system are used to verify telephone and mobile device usage and resolve billing discrepancies so that telephone and mobile device bills can be paid. They may also be used to identify and seek reimbursement for unofficial calls, and as a basis for taking action when agency employees or other persons misuse or abuse Commission telephone or mobile device services.

CATEGORIES OF INDIVIDUALS COVERED BY THE SYSTEM:

All Commission employees and all contractors, sub-contractors, consultants and other individuals who (1) are assigned telephone numbers by the Commission and who make long-distance telephone calls or long-distance facsimile transmissions from or charged to the Commission telephone system or (2) are assigned Commission mobile devices and make calls from or charged to those devices.

CATEGORIES OF RECORDS IN THE SYSTEM:

This system contains records relating to use of Commission telephones to place long-distance telephone calls, including personal calls, or long-distance facsimile transmissions; records relating to use of Commission mobile devices; records indicating assignment of telephone numbers to employees; and records relating to location of telephones.

RECORD SOURCE CATEGORIES:

Information in this system is obtained from telephone/mobile device assignment records; call detail listings and electronic files from the telephone and mobile device service providers; supervisors' confirmation of employees' responsibility for calls; and certification of telephone/mobile device bills.

ROUTINE USES OF RECORDS MAINTAINED IN THE SYSTEM, INCLUDING CATEGORIES OF USERS AND PURPOSES OF SUCH USES:

General Routine Uses A-C, E-I, and K-N apply to this system.

Relevant information in this system may be disclosed as necessary to other Federal agencies or Federal contractors with statutory authority to assist in the collection of Commission debts.

Disclosures may be made from this system pursuant to 5 U.S.C. 552a(b)(12) and 31 U.S.C. 3711(e) to “consumer reporting agencies” as defined in 31 U.S.C. 3701(a)(3).

POLICIES AND PRACTICES FOR STORAGE OF RECORDS:

Records at the Commission are maintained on an internal Commission electronic information system.

POLICIES AND PRACTICES FOR RETRIEVAL OF RECORDS:

These records are retrieved by name and/or telephone/mobile device number assigned to an individual, by date, number called, and city called.

POLICIES AND PRACTICES FOR RETENTION AND DISPOSAL OF RECORDS:

Records are generally retained in accordance with NARA GRS 12, item 4: Telephone Use (Call Detail). Records that have met required retention periods will be disposed of in accordance with NARA guidelines and Commission policy and procedures. Records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

At the Commission, access to the records in this system is limited to persons whose official duties require access, such as individuals responsible for verifying telephone and mobile device usage. Electronic records in this system that are maintained on internal Commission electronic information systems may be accessed only by individuals whose official duties require access through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable);

3. Assigned telephone/mobile device number; and

4. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable);

3. Assigned telephone/mobile device number; and

4. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable);

3. Assigned telephone/mobile device number; and

4. Signature.

EXEMPTIONS PROMULGATED FOR THE SYSTEM:

None.

HISTORY:

71 FR 35294 (June 19, 2006).

ITC-6

SYSTEM NAME AND NUMBER:

ITC-6 Security Access Records.

SECURITY CLASSIFICATION:

None.

SYSTEM LOCATION:

Records covered by this system are maintained by a contractor at the contractor's site, Datawatch Systems, 4401 East West Highway, Suite 500, Bethesda, MD 20814.

SYSTEM MANAGER(S):

Director, Office of Security and Support Services, U.S. International Trade Commission, 500 E Street SW., Washington, DC 20436.

AUTHORITY FOR MAINTENANCE OF THE SYSTEM:

Authority for maintenance of the system includes the following with any revisions or amendments: 19 U.S.C. 1331(a)(1)(A)(iii).

PURPOSE(S) OF THE SYSTEM:

These records are used to restrict and authorize physical access to Commission facilities. These records permit tracking of individual movements in circumstances such as when there has been a security breach or theft, to monitor access to restricted areas, and to verify time and attendance records of Commission employees to the extent permitted by applicable law and except as prohibited by Commission policy.

CATEGORIES OF INDIVIDUALS COVERED BY THE SYSTEM:

All Commission employees and all contractors, sub-contractors, consultants and other individuals who are assigned electronic security keys; all visitors to the Commission building.

CATEGORIES OF RECORDS IN THE SYSTEM:

This system contains records relating to the use of electronic security keys at the Commission, including records on which keys were used to gain or seek access to controlled areas, the time at which access was gained or sought, and the name and photograph of the individual assigned the key. This system also contains records identifying visitors to the Commission building, including the visitor's name, photograph, and expiration date of visitor's identification document (e.g., driver's license or passport) to facilitate security procedures.

RECORD SOURCE CATEGORIES:

Information in this system is obtained from the Commission's security contractor and from visitors to the Commission building.

ROUTINE USES OF RECORDS MAINTAINED IN THE SYSTEM, INCLUDING CATEGORIES OF USERS AND PURPOSES OF SUCH USES:

General Routine Uses A-C, E-I, and K-N apply to this system.

POLICIES AND PRACTICES FOR STORAGE OF RECORDS:

Records are maintained on computer media (such as an electronic database) by a contractor.

POLICIES AND PRACTICES FOR RETRIEVAL OF RECORDS:

The security key records are retrieved by area accessed, date and time of entry, key number, and name of individual. The visitor records may be retrieved by name and time of entry.

POLICIES AND PRACTICES FOR RETENTION AND DISPOSAL OF RECORDS:

Records will be retained until the proposed records schedule authorizing the disposal of such records is approved by NARA.

ADMINISTRATIVE, TECHNICAL, AND PHYSICAL SAFEGUARDS:

The security key records can be accessed remotely through a Web site by Commission personnel with a need to know the information for performance of their duties, such as the personnel security officer. The visitor records can be accessed by Commission personnel with a need to know the information for performance of their duties, such as the personnel security officer. Access to the records is restricted to authorized personnel through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable); and

3. Signature.

EXEMPTIONS PROMULGATED FOR THE SYSTEM:

None.

HISTORY:

71 FR 35294 (June 19, 2006).

ITC-7

SYSTEM NAME AND NUMBER:

ITC-7 Personnel Security Investigative Files.

SECURITY CLASSIFICATION:

None.

SYSTEM LOCATION:

Office of Security and Support Services, U.S. International Trade Commission, 500 E Street SW., Washington, DC 20436.

SYSTEM MANAGER(S):

Director, Office of Security and Support Services, U.S. International Trade Commission, 500 E Street SW., Washington, DC 20436.

AUTHORITY FOR MAINTENANCE OF THE SYSTEM:

Authority for maintenance of the system includes the following with any revisions or amendments: Executive Orders 10450, 12968, and 13526; 5 CFR parts 5, 731, 732, and 736; Homeland Security Presidential Directive (HSPD) 12, Policy for a Common Identification Standard for Federal employees and Contractors, August 27, 2004; 19 U.S.C. 1331(a)(1)(A)(iii).

PURPOSE(S) OF THE SYSTEM:

Records in this system are used to: Make national security, suitability, fitness, and HSPD-12 credentialing determinations; provide a current record of Commission employees with security clearance(s); and provide access cards and keys to Commission buildings and offices.

CATEGORIES OF INDIVIDUALS COVERED BY THE SYSTEM:

All current and former employees; all applicants for employment, including interns and volunteers; and contractors, subcontractors, and consultants.

CATEGORIES OF RECORDS IN THE SYSTEM:

This system contains records relating to adjudicative actions, determinations, and decisions on summary investigation packages and associated documentation from federal investigative organizations (e.g., U.S. Office of Personnel Management (OPM) and locator references to such investigations); records relating to name, former names, date of birth, place of birth, Social Security number, home address, phone numbers, citizenship, fingerprints, credit references, credit records, financial information, tax return information, education, employment history, residential history, criminal history, mental health history, drug use, dates and purposes of visits to foreign countries, U.S. and foreign passports and passport number(s), names of spouse(s), names of relatives, birthdates and places of relatives, citizenship of relatives, names of relatives who work for the federal government, names of associates and references and their contact information, date(s) of appointment, position title(s), grade, duty station(s), type of employment, type of clearance granted, clearance date, clearance termination date, suitability date, investigation basis, investigation completion date, case summaries documenting fitness, suitability and clearance determinations, results of suitability decisions, Commission termination date, security briefing data, notes of security personnel on information obtained during the pre-employment screening process, security investigator's notes on information gathered during the investigation, follow-up inquiries and responses, requests for appeal, witness statements, reports of security-related incidents, suspension of eligibility and/or access, denial or revocation of eligibility and/or access, eligibility recommendations or decisions made by an appellate authority, non-disclosure agreements and execution dates, indoctrination briefing dates, level(s) of access granted, debriefing date(s) and reasons for debriefing, foreign travel and contacts, and security reporting, including results from continuous evaluation and insider threat, and self-reporting. Forms in the system include SF-306, SF-312, SF-85, SF-85P, and SF-86.

RECORD SOURCE CATEGORIES:

Information is obtained from the individual on whom record is maintained; Office of Personnel Management; and any contractor who has been retained by the Commission to conduct background investigations.

ROUTINE USES OF RECORDS MAINTAINED IN THE SYSTEM, INCLUDING CATEGORIES OF USERS AND PURPOSES OF SUCH USES:

General Routine Uses A-D, E-K, and M-N apply to this system.

To a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

Relevant information in this system may be disclosed as necessary to other Federal agencies or Federal contractors with statutory authority to assist in the collection of Commission debts.

Disclosures may be made from this system pursuant to 5 U.S.C. 552a(b)(12) and 31 U.S.C. 3711(e) to “consumer reporting agencies” as defined in 31 U.S.C. 3701(a)(3).

POLICIES AND PRACTICES FOR STORAGE OF RECORDS:

These records are maintained on paper in file folders (until completion of any investigation and adjudication) and electronically on an internal Commission electronic information system.

POLICIES AND PRACTICES FOR RETRIEVAL OF RECORDS:

These records are retrieved by name and Social Security number.

POLICIES AND PRACTICES FOR RETENTION AND DISPOSAL OF RECORDS:

Records are retained in accordance with NARA GRS 18: Personnel Security Clearance Files. Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

Access to the records in this system is limited to persons whose official duties require access such as the personnel security officer for personnel security investigations. Paper records are maintained in limited access areas in a building with restricted public access, patrolled by guards. Both standard and electronic locks are used to restrict access. Electronic records in this system may be accessed only by individuals whose official duties require access through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable); and

3. Signature.

EXEMPTIONS PROMULGATED FOR THE SYSTEM:

Pursuant to 5 U.S.C. 552a(k)(1), (k)(5) and (k)(6), this system of records is exempted from (c)(3), (d), (e)(1), (e)(4)(G)-(I) and (f) of the Privacy Act. These exemptions are established in the Commission rules at 19 CFR 201.32.

HISTORY:

71 FR 35294 (June 19, 2006); 72 FR 35068 (June 26, 2007).

ITC-8

SYSTEM NAME AND NUMBER:

ITC-8 Library Circulation Records.

SECURITY CLASSIFICATION:

None.

SYSTEM LOCATION:

Progressive Technology Federal Systems Inc., 11501 Huff Court, North Bethesda, MD 20895.

SYSTEM MANAGER(S):

Chief Librarian, U.S. International Trade Commission, 500 E Street SW., Washington, DC 20436.

AUTHORITY FOR MAINTENANCE OF THE SYSTEM:

Authority for maintenance of the system includes the following with any revisions or amendments: 40 U.S.C. 524(a); 19 U.S.C. 1331(a)(1)(A)(iii).

PURPOSE(S) OF THE SYSTEM:

Records in this system are used to locate Main Library materials in circulation and to control and inventory Main Library materials loaned.

CATEGORIES OF INDIVIDUALS COVERED BY THE SYSTEM:

All Commission employees, contractors, and other individuals with borrowing privileges, who have borrowed materials from the Main Library.

CATEGORIES OF RECORDS IN THE SYSTEM:

This system contains records relating to titles and other identifying data on materials borrowed from the Main Library, and the name, agency, office, office telephone number, and office room number of borrower, and the scheduled return date for each item borrowed.

RECORD SOURCE CATEGORIES:

Information is obtained from the individual who borrows materials, from Main Library records on materials borrowed, and from the Commission telephone directory.

ROUTINE USES OF RECORDS MAINTAINED IN THE SYSTEM, INCLUDING CATEGORIES OF USERS AND PURPOSES OF SUCH USES:

General Routine Uses E, H, I, and L-N apply to this system.

Relevant information in this system may be disclosed as necessary to other Federal agencies or Federal contractors with statutory authority to assist in the collection of Commission debts.

Disclosures may be made from this system pursuant to 5 U.S.C. 552a(b)(12) and 31 U.S.C. 3711(e) to “consumer reporting agencies” as defined in 31 U.S.C. 3701(a)(3).

POLICIES AND PRACTICES FOR STORAGE OF RECORDS:

These records are maintained on computer media by an outside contractor.

POLICIES AND PRACTICES FOR RETRIEVAL OF RECORDS:

These records are retrieved by name, by title of item borrowed, and by call number.

POLICIES AND PRACTICES FOR RETENTION AND DISPOSAL OF RECORDS:

These records are maintained until library staff electronically remove an employee-borrower entry from the system, which is done when the individual in question is no longer employed or working at the Commission. However, a borrowed item is electronically removed from a borrower's entry when the item is returned to the library.

ADMINISTRATIVE, TECHNICAL, AND PHYSICAL SAFEGUARDS:

The electronic records in this system can be accessed remotely through a Web site by Commission personnel with a need to know the information for performance of their duties, such as library staff. Access to the system is restricted to authorized personnel through the use of safeguards such as passwords. Individual borrowers may establish a login and password that permits access only to their own records.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment; and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment; and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment; and

3. Signature.

EXEMPTIONS PROMULGATED FOR THE SYSTEM:

None.

HISTORY:

71 FR 35294 (June 19, 2006); 72 FR 35068 (June 26, 2007).

ITC-9

SYSTEM NAME AND NUMBER:

ITC-9 Parking and Mass Transit Subsidy Records.

SECURITY CLASSIFICATION:

None.

SYSTEM LOCATION:

Office of Security and Support Services, U.S. International Trade Commission, 500 E Street SW., Washington, DC 20436; Washington Metropolitan Area Transit Authority, 600 5th Street NW., Washington, DC 20001.

SYSTEM MANAGER(S):

Director, Office of Security and Support Services, U.S. International Trade Commission, 500 E Street SW., Washington, DC 20436.

AUTHORITY FOR MAINTENANCE OF THE SYSTEM:

Authority for maintenance of the system includes the following with any revisions or amendments: 19 U.S.C. 1331(a)(1)(A)(iii); 41 CFR 102-74; 5 U.S.C. 7905.

PURPOSE(S) OF THE SYSTEM:

Records in this system are used to allocate and control agency-subsidized parking spaces and mass transit subsidies, assist in creating car pools, and insure that employees qualify for subsidized parking spaces or mass transit subsidies.

CATEGORIES OF INDIVIDUALS COVERED BY THE SYSTEM:

All current and former Commission employees and other authorized individuals who participate in the Commission mass transit and car pool subsidy programs.

CATEGORIES OF RECORDS IN THE SYSTEM:

This system contains records relating to participant's name, agency, office room number and phone number, name of participant's supervisor, participant's home address, automobile type (make and model) and license number, permit number, participant's length of government service and type of work schedule, participant's type of transportation used for commuting, carpool payment amounts and names of others in carpool, mass transit benefit amounts, assigned SmarTrip card number and card usage information (e.g., time, date, and location).

RECORD SOURCE CATEGORIES:

Information is obtained from the individual to whom the records pertain.

ROUTINE USES OF RECORDS MAINTAINED IN THE SYSTEM, INCLUDING CATEGORIES OF USERS AND PURPOSES OF SUCH USES:

General Routine Uses A-C, E-I, K, and L-N apply to this system.

Relevant information in this system may be disclosed as necessary to other Federal agencies or Federal contractors with statutory authority to assist in the collection of Commission debts.

Disclosures may be made from this system pursuant to 5 U.S.C. 552a(b)(12) and 31 U.S.C. 3711(e) to “consumer reporting agencies” as defined in 31 U.S.C. 3701(a)(3).

POLICIES AND PRACTICES FOR STORAGE OF RECORDS:

Records at the Commission are maintained on paper in file folders and on an internal Commission electronic information system.

POLICIES AND PRACTICES FOR RETRIEVAL OF RECORDS:

These records are retrieved by applicant name or, in the case of parking records, space assignment or parking permit number.

POLICIES AND PRACTICES FOR RETENTION AND DISPOSAL OF RECORDS:

Records are retained in accordance with NARA GRS 9, item 7: Federal Employee Transportation Subsidy Records. Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

At the Commission, access to records in this system is limited to persons who have a need to know the information for the performance of their official duties, such as persons administering the parking and mass transit subsidy programs. Paper records in this system are maintained in locked file cabinets behind locked doors in a building with restricted public access, patrolled by guards. Both standard and electronic locks are used to restrict access. The electronic records in this system may only be accessed by authorized individuals through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable); and

3. Signature.

EXEMPTIONS PROMULGATED FOR THE SYSTEM:

None.

HISTORY:

71 FR 35294 (June 19, 2006).

ITC-10

[Reserved].

ITC-11

SYSTEM NAME AND NUMBER:

ITC-11 Congressional Correspondence Records.

SECURITY CLASSIFICATION:

None.

SYSTEM LOCATION:

Office of External Relations, U.S. International Trade Commission, 500 E Street SW., Washington, DC 20436. Copies of these records may exist in other Commission offices, located at the same street address, with information pertaining to the correspondence; copies of records in this system concerning inquiries relating to specific Commission investigations may be included in the administrative record of such investigations.

SYSTEM MANAGER(S):

Director, Office of External Relations, U.S. International Trade Commission, 500 E Street SW., Washington, DC 20436.

AUTHORITY FOR MAINTENANCE OF THE SYSTEM:

Authority for maintenance of the system includes the following with any revisions or amendments: 44 U.S.C. 3101; 19 U.S.C. 1331(a)(1)(A)(iii).

PURPOSE(S) OF THE SYSTEM:

Records in this system are used to respond to Congressional inquiries and inform Congress about Commission activities.

CATEGORIES OF INDIVIDUALS COVERED BY THE SYSTEM:

Members of Congress, and their constituents.

CATEGORIES OF RECORDS IN THE SYSTEM:

This system contains records relating to the name, address and title of, and referrals of constituents' inquiries, from Members of Congress and responses thereto, and any other personal information in correspondence with Members of Congress and Congressional committees and/or subcommittees.

RECORD SOURCE CATEGORIES:

Information from this system comes from Members of Congress, their staffs, and individuals on whose behalf there have been Congressional inquiries.

ROUTINE USES OF RECORDS MAINTAINED IN THE SYSTEM, INCLUDING CATEGORIES OF USERS AND PURPOSES OF SUCH USES:

Records in this system may be made available to the public through the Commission's Web site. General routine uses A, D-H, and K-N apply to this system.

Referral may be made to other Federal, State, or local government agencies for appropriate action when the matter complained of or inquired about comes within the jurisdiction of such agency.

POLICIES AND PRACTICES FOR STORAGE OF RECORDS:

These records are maintained on paper in file folders and on internal Commission electronic information systems.

POLICIES AND PRACTICES FOR RETRIEVAL OF RECORDS:

These records are retrieved by name of Member of Congress or by name of the Chairman of a Congressional committee or subcommittee.

POLICIES AND PRACTICES FOR RETENTION AND DISPOSAL OF RECORDS:

Records are generally retained in accordance with USITC records schedule NC1-081-78-001, item F21: Correspondence with Members of Congress. This USITC records schedule is being revised to change the retention period to two years after the Member of Congress departs from office. The retention period for item F21, NC1-081-78-001 remains in effect until the revision is approved by NARA. Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

Access to the records is limited to persons whose official duties require access, such as individuals who prepare responses to Congressional inquiries. Paper records in this system are maintained in a building with restricted public access, patrolled by guards. Both standard and electronic locks may be used to restrict access. The paper records in this system are kept in limited access areas within the building. Electronic records in this system may only be accessed by authorized individuals through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable); and

3. Signature.

EXEMPTIONS PROMULGATED FOR THE SYSTEM:

None.

HISTORY:

71 FR 35294 (June 19, 2006).

ITC-12

SYSTEM NAME AND NUMBER:

ITC-12 System Access Records.

SECURITY CLASSIFICATION:

None.

SYSTEM LOCATION:

Office of the Chief Information Officer, U.S. International Trade Commission, 500 E Street SW., Washington, DC 20436.

SYSTEM MANAGER(S):

Office of the Chief Information Officer, U.S. International Trade Commission, 500 E Street SW., Washington, DC 20436.

AUTHORITY FOR MAINTENANCE OF THE SYSTEM:

Authority for maintenance of the system includes the following with any revisions or amendments: 19 U.S.C. 1331(a)(1)(A)(iii).

PURPOSE(S) OF THE SYSTEM:

These records are used to permit tracking of individual computer access to prevent improper use of Commission equipment. These records also are used as a tool for investigation in the event of an unauthorized intrusion into the Commission's information systems. Additionally, these records are used for statistical analysis of computer usage.

CATEGORIES OF INDIVIDUALS COVERED BY THE SYSTEM:

All current and former Commission employees and all current and former contractors, sub-contractors, consultants, and other individuals who use Commission computers or visit the Commission's internet and intranet Web sites.

CATEGORIES OF RECORDS IN THE SYSTEM:

This system contains information pertaining to a computer user's access to Commission computers and other information technology resources, including such information as the identification of the computer assigned to a particular user, Internet sites visited, actions performed, dates, and time. It also includes records relating to name, address, country, telephone number, fax number, email address, employer type, agency or firm name, the computer's Internet protocol addresses, and account number gathered while accessing the Commission's internet and intranet Web sites.

RECORD SOURCE CATEGORIES:

Information in this system comes from the Commission's information technology systems such as web servers and firewall devices.

ROUTINE USES OF RECORDS MAINTAINED IN THE SYSTEM, INCLUDING CATEGORIES OF USERS AND PURPOSES OF SUCH USES:

General Routine Uses A-C and E-N apply to this system.

POLICIES AND PRACTICES FOR STORAGE OF RECORDS:

The System Access Records are maintained on Commission servers, electronic tape, magnetic disk, or other data storage media.

POLICIES AND PRACTICES FOR RETRIEVAL OF RECORDS:

The System Access Records are retrieved by searching for specific data elements (such as user name or Internet Protocol (IP) address) on the electronic tape or magnetic disk or other data storage media.

POLICIES AND PRACTICES FOR RETENTION AND DISPOSAL OF RECORDS:

Records are retained in accordance with NARA GRS 3.2, items 030 and 031: System Access Records. Records that have met required retention periods will be disposed of in accordance with NARA guidelines and Commission policy and procedures. Records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

The records are maintained in secure locations with access limited to persons whose official duties require access such as network administrators. The computer files can only be accessed by authorized individuals through the use of safeguards such as passwords.

RECORD ACCESS PROCEDURE:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature

Individuals requesting amendment must comply with the Commission's Privacy Act regulations on verification of identity (19 CFR 201.25).

NOTIFICATION OF PROCEDURE:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable);

3. Signature.

EXEMPTIONS CLAIMED FOR THE SYSTEM:

None.

HISTORY:

71 FR 35294 (June 19, 2006).

ITC-13

SYSTEM NAME AND NUMBER:

ITC-13 Administrative Protective Order Breach and Related Records.

SECURITY CLASSIFICATION:

None.

SYSTEM LOCATION:

Office of the Secretary, U.S. International Trade Commission, 500 E Street SW., Washington, DC 20436, and the Office of the General Counsel.

SYSTEM MANAGER(S):

Secretary, U.S. International Trade Commission, 500 E Street SW., Washington, DC 20436.

AUTHORITY FOR MAINTENANCE OF THE SYSTEM:

Authority for maintenance of the system includes the following with any revisions or amendments: 19 U.S.C. 1337, 1677f, 2252, 2451, and 2451a.

PURPOSE(S) OF THE SYSTEM:

Records in this system are used to determine whether a person has breached an administrative protective order and/or should be sanctioned.

CATEGORIES OF INDIVIDUALS COVERED BY THE SYSTEM:

Persons subject to investigations of alleged breaches of administrative protective orders and/or investigations of whether there is good cause to sanction persons under section 201.15 of the Commission's Rules of Practice and Procedure (19 CFR 201.15).

CATEGORIES OF RECORDS IN THE SYSTEM:

This system contains records relating to a person's name, firm, address, the basis for the investigation, the Commission's determinations with respect to the facts of the investigation, and any sanctions or other actions taken in response to the agency's determinations.

RECORD SOURCE CATEGORIES:

Information in this system comes from the individual on whom the record is maintained and investigative records compiled by Commission staff.

ROUTINE USES OF RECORDS MAINTAINED IN THE SYSTEM, INCLUDING CATEGORIES OF USERS AND PURPOSES OF SUCH USES:

General Routine Uses A-C, E-K, and M-N apply to this system.

Relevant information in this system may be disclosed to the public as necessary where the Commission determines that a public sanction is warranted or where the Commission determines that such disclosure is necessary to facilitate the recovery of business proprietary information or confidential business information which has been disclosed to unauthorized persons.

Information from this system of records concerning one person may be disclosed to other persons subject to the same Administrative Protective Order (“APO”) breach investigation, to other persons subject to the same breach investigation of whether there is good cause to sanction persons under section 201.15 of the Commission's Rules of Practice and Procedure (19 CFR 201.15), and/or to other parties participating in the underlying trade remedy proceeding.

POLICIES AND PRACTICES FOR STORAGE OF RECORDS:

These records are maintained on paper in file folders and on internal Commission electronic information systems.

POLICIES AND PRACTICES FOR RETRIEVAL OF RECORDS:

These records are retrieved by name and APO breach identification number.

POLICIES AND PRACTICES FOR RETENTION AND DISPOSAL OF RECORDS:

Records are retained in accordance with USITC records schedule N1-081-97-001, items 1a and 1b: Files maintained by the Office of the Secretary on Investigations of Possible Violations of Administrative Protective Orders and Commission Rules. Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

Access to this system of records is limited to persons who have a need to know the information for the performance of their official duties, such as Commission employees conducting APO breach investigations. Paper records in this system are maintained in locked offices or in limited access areas in a building with restricted public access, patrolled by guards. Both standard and electronic locks may be used to restrict access. The electronic records in this system may only be accessed by authorized individuals through the use of safeguards such as passwords.

RECORD ACCESS PROCEDURES:

Individuals wishing to request access to their records should contact the Privacy Act Officer, Office of the Secretary, U.S. International Trade Commission, 500 E Street SW., Washington, DC 20436.

Individuals must furnish their full name and signature for their records to be located and identified.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish their full name and signature for their records to be located and identified.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish their full name and signature for their records to be located and identified.

EXEMPTIONS PROMULGATED FOR THE SYSTEM:

None.

HISTORY:

71 FR 35294 (June 19, 2006); 72 FR 35068 (June 26, 2007).

ITC-14

SYSTEM NAME AND NUMBER:

ITC-14 Import and Export Records.

SECURITY CLASSIFICATION:

None.

SYSTEM LOCATION:

Office of Operations, U.S. International Trade Commission, 500 E Street SW., Washington, DC 20436.

SYSTEM MANAGER(S):

Chief of the Statistical and Data Services Division, Office of Analysis and Research Services, U.S. International Trade Commission, 500 E Street SW., Washington, DC 20436.

AUTHORITY FOR MAINTENANCE OF THE SYSTEM:

Authority for maintenance of the system includes the following with any revisions or amendments: 19 U.S.C. 1330-1335, 1337, 1671 et seq., 2151, 2213, 2251-54, 2436, 2451-51a, 2482, 2704, 3204, 3353, 3372, 3381, 3804; 7 U.S.C. 624.

PURPOSE(S) OF THE SYSTEM:

Records in this system are used to conduct statutorily mandated investigations and studies, such as antidumping, countervailing duty, global safeguard, and intellectual property-related investigations and industry and economic analysis.

CATEGORIES OF INDIVIDUALS COVERED BY THE SYSTEM:

Individuals importing to and/or exporting from the United States, and individuals producing articles for import and/or export.

CATEGORIES OF RECORDS IN THE SYSTEM:

The system contains records relating to an importer's, exporter's, or producer's name, organization, title or position, business role, address, telephone number, electronic mail address, Web site address, and Dun's number, as well as quantity and value information on imports and exports. Some contact information is for the homes of individuals.

RECORD SOURCE CATEGORIES:

Information is obtained from U.S. Customs and Border Protection and other agencies that collect the information.

ROUTINE USES OF RECORDS MAINTAINED IN THE SYSTEM, INCLUDING CATEGORIES OF USERS AND PURPOSES OF SUCH USES:

General Routine Uses A-C, E-I, K, and M-N apply to this system.

Records in this system may be disclosed as necessary to the Office of the United States Trade Representative and other agencies in safeguard and intellectual-property related investigations.

Records in this system may be disclosed as necessary to U.S. Customs and Border Protection in intellectual-property and import injury investigations in accordance with statutory authority to facilitate that agency's fraud investigations and administration of entry exclusions.

Records in this system may be disclosed as necessary to representatives of parties to investigations under administrative protective order and/or judicial protective order.

Records in this system may be publicly disclosed as necessary in aggregated form that is not individually identifiable.

Records in this system may be disclosed as necessary to North American Free Trade Agreement panels and other tribunals, and U.S. courts reviewing trade remedy investigations.

POLICIES AND PRACTICES FOR STORAGE OF RECORDS:

These records are maintained on internal Commission electronic information systems and in hard copies in internal Commission offices.

POLICIES AND PRACTICES FOR RETRIEVAL OF RECORDS:

These records are retrieved by name.

POLICIES AND PRACTICES FOR RETENTION AND DISPOSAL OF RECORDS:

Records are generally retained in accordance with USITC records schedule N1-081-03-1, item B1 (Import Injury Investigation Case Files), item B2 (Research Program Case Files), and item B3 (Intellectual Property-Based Import Investigations). Retention periods may be subject to interagency agreements. Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88).

Disposal procedures for records in this system shall comply with requirements in applicable interagency agreements.

ADMINISTRATIVE, TECHNICAL, AND PHYSICAL SAFEGUARDS:

Access to this system of records is limited to persons who have a need to know the information for the performance of their official duties, such as individuals participating in certain Commission statutory investigations. Safeguard procedures for records in this system shall comply with requirements in applicable interagency agreements. Paper records in this system are maintained in limited access spaces in locked offices in a building with restricted public access, patrolled by guards. Both standard and electronic locks are used to restrict access. The electronic records in this system may only be accessed by authorized individuals through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable); and

3. Signature.

EXEMPTIONS PROMULGATED FOR THE SYSTEM:

None.

HISTORY:

71 FR 35294 (June 19, 2006).

ITC-15

SYSTEM NAME AND NUMBER:

ITC-15 Telecommuting Program Records.

SECURITY CLASSIFICATION:

None.

SYSTEM LOCATION:

Records relating to special circumstances telework requests are located in the Office of Human Resources and other telecommuting program records are located in the Office of Security and Support Services, U.S. International Trade Commission, 500 E Street SW., Washington, DC 20436.

SYSTEM MANAGER(S):

Director, Office of Security and Support Services, U.S. International Trade Commission, 500 E Street SW., Washington, DC 20436.

AUTHORITY FOR MAINTENANCE OF THE SYSTEM:

Authority for maintenance of the system includes the following with any revisions or amendments: 19 U.S.C. 1331(a)(1)(A)(iii); Pub. L. 106-346, § 359, 114 Stat. 1356, 1356A-36 (2000).

PURPOSE(S) OF THE SYSTEM:

Records in this system are used to administer the agency's telecommuting program. They may also be used to monitor employee compliance with the agency's telecommuting procedures.

CATEGORIES OF INDIVIDUALS COVERED BY THE SYSTEM:

All current and former Commission employees and other authorized individuals who participate in the Commission telecommuting program.

CATEGORIES OF RECORDS IN THE SYSTEM:

This system contains records relating to a person's name, title, office, supervisor, electronic mail address, telephone number, and alternate duty station address (which is often a home address). The telecommuting program records in this system do not include time and attendance records otherwise covered by ITC-1 (Pay and Leave Records).

RECORD SOURCE CATEGORIES:

Information is obtained from the individual to whom the records pertain.

ROUTINE USES OF RECORDS MAINTAINED IN THE SYSTEM, INCLUDING CATEGORIES OF USERS AND PURPOSES OF SUCH USES:

General Routine Uses A-C and E-N apply to this system.

Relevant information in this system may be disclosed as necessary to the United States Congress in a form that does not identify covered individuals.

POLICIES AND PRACTICES FOR STORAGE OF RECORDS:

These records are maintained on paper in file folders and on internal Commission electronic information systems.

POLICIES AND PRACTICES FOR RETRIEVAL OF RECORDS:

These records are retrieved by name.

POLICIES AND PRACTICES FOR RETENTION AND DISPOSAL OF RECORDS:

Records are retained in accordance with NARA GRS-1, item 42: Alternate Worksite Records. Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

Access to records in this system is limited to persons whose official duties require access, such as Commission personnel who approve telecommute agreements. The Office of Human Resources maintains paper records pertaining to special circumstances telecommute requests in a locked filing cabinet in a locked room in a building with restricted public access, patrolled by guards. Both standard and electronic locks are used to restrict access. The electronic records in this system may only be accessed by authorized individuals through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable); and

3. Signature.

EXEMPTIONS PROMULGATED FOR THE SYSTEM:

None.

HISTORY:

71 FR 35294 (June 19, 2006).

ITC-16

SYSTEM NAME AND NUMBER:

ITC-16 Emergency Notification Records.

SECURITY CLASSIFICATION:

None.

SYSTEM LOCATION:

The various offices within the U.S. International Trade Commission, 500 E Street SW., Washington, DC 20436.

SYSTEM MANAGER(S):

Director, Office of Human Resources, U.S. International Trade Commission, 500 E Street SW., Washington, DC 20436.

AUTHORITY FOR MAINTENANCE OF THE SYSTEM:

Authority for maintenance of the system includes the following with any revisions or amendments: 19 U.S.C. 1331(a)(1)(A)(iii) and 44 U.S.C. 3101.

PURPOSE(S) OF THE SYSTEM:

Records are maintained in this system for the purpose of notifying and identifying employees or their designees under emergency conditions.

CATEGORIES OF INDIVIDUALS COVERED BY THE SYSTEM:

All current Commission employees.

CATEGORIES OF RECORDS IN THE SYSTEM:

This system contains records relating to a person's name, title, office, home address, office and home electronic mail addresses, and office and personal telephone numbers, as well as the name, address, and telephone number of the employee's designated emergency contact.

RECORD SOURCE CATEGORIES:

Information is obtained from the individual to whom the records pertain.

ROUTINE USES OF RECORDS MAINTAINED IN THE SYSTEM, INCLUDING CATEGORIES OF USERS AND PURPOSES OF SUCH USES:

General Routine Uses A-C and E-N apply to this system.

POLICIES AND PRACTICES FOR STORAGE OF RECORDS:

These records are maintained on paper in file folders in internal Commission offices, on Commission mobile devices, and on internal Commission electronic information systems.

POLICIES AND PRACTICES FOR RETRIEVAL OF RECORDS:

These records are retrieved by name.

POLICIES AND PRACTICES FOR RETENTION AND DISPOSAL OF RECORDS:

Emergency Notification Records are retained by the Commission until the proposed records schedule authorizing the disposal of such records is approved by NARA.

ADMINISTRATIVE, TECHNICAL, AND PHYSICAL SAFEGUARDS:

Access to records in this system is limited to persons whose official duties require access, including individuals (such as supervisors) who are responsible for contacting employees in an emergency. Paper records in this system are maintained in limited access areas in a building with restricted public access, patrolled by guards. Both standard and electronic locks are used to restrict access. Electronic records in this system may only be accessed by authorized individuals through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable); and

3. Signature.

EXEMPTIONS PROMULGATED FOR THE SYSTEM:

None.

HISTORY:

71 FR 35294 (June 19, 2006); 72 FR 35068 (June 26, 2007).

ITC-17

SYSTEM NAME AND NUMBER:

ITC-17 Roster of Mediators.

SECURITY CLASSIFICATION:

None.

SYSTEM LOCATION:

Office of the Secretary, U.S. International Trade Commission, 500 E Street SW., Washington, DC 20436.

SYSTEM MANAGER(S):

Secretary to the Commission, U.S. International Trade Commission, 500 E Street SW., Room 112, Washington, DC 20436.

AUTHORITY FOR MAINTENANCE OF THE SYSTEM:

Authority for maintenance of the system includes the following with any revisions or amendments: 19 U.S.C. 1331(a)(1)(A)(iii); 5 U.S.C. 572-574.

PURPOSE(S) OF THE SYSTEM:

Records in this system are used to identify potential mediators for participation in the Commission's mediation program.

CATEGORIES OF INDIVIDUALS COVERED BY THE SYSTEM:

Individuals selected as roster members to serve as potential mediators as part of the Commission's mediation program.

CATEGORIES OF RECORDS IN THE SYSTEM:

This system contains records of individuals, including their name, organization, business or home address, telephone number, facsimile number, electronic mail address, and financial or business interests.

RECORD SOURCE CATEGORIES:

Information in this system comes from the individual to whom the record pertains.

ROUTINE USES OF RECORDS MAINTAINED IN THE SYSTEM, INCLUDING CATEGORIES OF USERS AND PURPOSES OF SUCH USES:

The name of the mediator and brief biographical information will be posted on the Commission's mediation Web page, and also may be published in the Federal Register. Outside counsel for a party subject to a mediation also may obtain information, subject to a confidentiality agreement, about potential mediators and the mediator selected for its particular mediation. General Routine Uses A-N apply to this system.

POLICIES AND PRACTICES FOR STORAGE OF RECORDS:

These records are maintained on internal Commission electronic information systems.

POLICIES AND PRACTICES FOR RETRIEVAL OF RECORDS:

These records are retrieved by name.

POLICIES AND PRACTICES FOR RETENTION AND DISPOSAL OF RECORDS:

USITC will propose a records schedule authorizing the disposition of these records. Records are retained by the Commission until the proposed records disposition schedule is approved by NARA.

ADMINISTRATIVE, TECHNICAL, AND PHYSICAL SAFEGUARDS:

Access to this system of records is limited to persons who have a need to know the information for the performance of their official duties, such as individuals in the Office of the Secretary involved in the mediator selection process and to counsel subject to a confidentiality agreement. Electronic records in this system may only be accessed by authorized individuals through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable); and

3. Signature.

EXEMPTIONS PROMULGATED FOR THE SYSTEM:

None.

HISTORY:

None.

ITC-18

SYSTEM NAME AND NUMBER:

ITC-18 Personnel Photograph Records.

SECURITY CLASSIFICATION:

None.

SYSTEM LOCATION:

Office of External Relations, U.S. International Trade Commission, 500 E Street SW., Washington, DC 20436, and other offices in the U.S. International Trade Commission, 500 E Street SW., Washington, DC 20436.

SYSTEM MANAGER(S):

For Commissioner and administrative law judge portraits: Director of External Relations, Office of External Relations, U.S. International Trade Commission, 500 E Street SW., Washington, DC 20436;

For employee photographs: Chief Administrative Officer, Office of Administration, U.S. International Trade Commission, 500 E Street SW., Washington, DC 20436.

AUTHORITY FOR MAINTENANCE OF THE SYSTEM:

Authority for maintenance of the system includes the following with any revisions or amendments: 19 U.S.C. 1331(a)(1)(A)(iii).

PURPOSE(S) OF THE SYSTEM:

These records are used for the purposes of enhancing the security of the Commission's building by familiarizing Commission staff with the identities and appearance of Commission personnel, educating the public, assisting Commission personnel in interfacing with customers and the public, and promoting open and collaborative electronic communication with Commission personnel.

CATEGORIES OF INDIVIDUALS COVERED BY THE SYSTEM:

Commission personnel, including employees and contractors.

CATEGORIES OF RECORDS IN THE SYSTEM:

This system contains photographs of Commission personnel.

RECORD SOURCE CATEGORIES:

Information in this system is obtained from the individual to whom the record pertains.

ROUTINE USES OF RECORDS MAINTAINED IN THE SYSTEM, INCLUDING CATEGORIES OF USERS AND PURPOSES OF SUCH USES:

General Routine Uses A-L and M-N apply to this system. Records in this system can be accessed and publicly disclosed to assist the Commission in its relations with its customers and the public. To promote open electronic communication with Commission personnel, records in this system may be accessed and emailed by users of the Commission's email system, and may be further distributed by any recipient.

POLICIES AND PRACTICES FOR STORAGE OF RECORDS:

These records are maintained in print, as photographic negatives, on computer media (e.g., digital image files on CD and stand-alone computer systems) and on internal Commission electronic information systems.

POLICIES AND PRACTICES FOR RETRIEVAL OF RECORDS:

These records are retrieved by the name or identification number of the individuals on whom they are maintained.

POLICIES AND PRACTICES FOR RETENTION AND DISPOSAL OF RECORDS:

Records are retained in accordance with (a) USITC records schedule NC1-081-78-001, item B9: Photographs and Biographies of Commissioners and (b) NARA GRS 21, item 2: Personnel Identification or Passport Photographs. Records that have met required retention periods will be disposed of in accordance with NARA guidelines and Commission policy and procedures. Photographs of personnel maintained in print are shredded, and records maintained on internal Commission electronic information systems are electronically removed. Commission electronic storage media that is no longer in service is purged in accordance with National Institute of Standards and Technology guidelines for media sanitization (NIST SP 800-88). Commissioner portraits are permanent records. These records, in any format, are transferred to the National Archives five years after the Commissioner leaves the Commission.

ADMINISTRATIVE, TECHNICAL, AND PHYSICAL SAFEGUARDS:

These records are maintained in offices in a building with restricted public access, patrolled by guards. Both standard and electronic locks are used to restrict access. The records in this system are kept in limited access areas within the offices. The paper files are maintained in secure file cabinets or rooms, and access is limited to persons whose official duties require access, such as the Commission's public affairs officer for purposes of public education. The computer files can be accessed only by authorized individuals through the use of safeguards such as passwords.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment; and

3. Signature.

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436. Individuals must furnish the following information for their records to be located and identified:

1. Full name(s);

2. Dates of employment; and

3. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment; and

3. Signature.

EXEMPTIONS PROMULGATED FOR THE SYSTEM:

None.

HISTORY:

None.

ITC-1

SYSTEM NAME AND NUMBER:

ITC-19 Employment Law Records.

SECURITY CLASSIFICATION:

None.

SYSTEM LOCATION:

Office of the General Counsel and other Commission offices, U.S. International Trade Commission, 500 E Street SW., Washington, DC 20436.

SYSTEM MANAGER(S):

General Counsel, Office of the General Counsel, U.S. International Trade Commission, 500 E Street SW., Washington, DC 20436.

AUTHORITY FOR MAINTENANCE OF THE SYSTEM:

Authority for maintenance of the system includes the following with any revisions or amendments: 44 U.S.C. 3101; 19 U.S.C. 1331(a)(1)(A)(iii).

PURPOSE(S) OF THE SYSTEM:

The Office of the General Counsel provides legal representation to Commission management in all administrative matters including, but not limited to, adverse actions, grievances, EEO, and unfair labor practices; represents the Commission and its employees in district court actions brought against them for acts taken in the course of official duties; and represents the Commission in other actions in which its interests are involved. Effective representation in such matters requires that records be retrievable by individual identifiers.

CATEGORIES OF INDIVIDUALS COVERED BY THE SYSTEM:

Individuals who have submitted grievances (in accordance with part 771 of the regulations of the Office of Personnel Management (the “OPM”) (5 CFR part 771), under 5 U.S.C. 7121, or through a negotiated grievance procedure), initiated EEO complaints, or initiated administrative proceedings or civil litigation against the Commission and/or or its personnel; individuals who have provided information, testimony, affidavits, or declarations concerning such matters; Commission attorneys assigned to such matters.

CATEGORIES OF RECORDS IN THE SYSTEM:

This system contains documents relating to employment law matters. Such matters include adverse actions, grievances, unfair labor practice charges, civil actions against Commission employees in their official capacities, and Equal Employment Opportunity and other employee claims. Documents contained in the system include names of persons involved and Commission attorneys handling the matter, correspondence, internal reports and related documents concerning the merits, attorney notes and recommendations; records on actions taken by the Commission giving rise to appeals, attorney notes, recommendations and strategy for defending appeals; documents submitted or filed by plaintiffs/grievants/complaints in civil actions or administrative proceedings against the Commission, such as complaints, grievances, unfair labor practice claims, motions and briefs; documents submitted by the Commission to defend or respond, such as answers to complaints, motions to dismiss or for summary judgment, replies to administrative complaints, grievances, or unfair labor practice claims; administrative determinations at issue; discovery and investigatory materials such as witness statements, reports of interviews, attorney notes, affidavits, declarations, correspondence, records, exhibits, and other documentary evidence; litigation materials, such as legal memoranda, attorney notes and recommendations, hearing transcripts, and related correspondence and exhibits; and final judgments, orders, decisions, decrees, and settlement agreements.

RECORD SOURCE CATEGORIES:

Information in this system of records is obtained from:

a. Plaintiffs, grievants, complainants, and aggrieved individuals;

b. Current and former Commission employees and officials;

c. Statements of witnesses and parties;

d. Transcripts of hearings, depositions, and court proceedings;

e. Work product of Commission attorneys and their assistants.

ROUTINE USES OF RECORDS MAINTAINED IN THE SYSTEM, INCLUDING CATEGORIES OF USERS AND PURPOSES OF SUCH USES:

General Routine Uses A-C, E-K, and M-N apply to this system.

Information in this system may be disclosed to any federal, state or local agency, organization or individual to the extent necessary to obtain information or witness cooperation if there is reason to believe the recipient possesses information related to the matter.

Information in this system may be disclosed to an actual or potential party to litigation or the party's authorized representative for the purpose of negotiation or discussion of such matters as settlement or informal discovery proceedings.

Information in this system may be disclosed as necessary to other Federal agencies or Federal contractors with statutory authority to assist in the collection of Commission debts.

Disclosures may be made from this system pursuant to 5 U.S.C. 552a(b)(12) and 31 U.S.C. 3711(e) to “consumer reporting agencies” as defined in 31 U.S.C. 3701(a)(3).

POLICIES AND PRACTICES FOR STORAGE OF RECORDS:

These records are maintained on an internal Commission electronic information system and on paper in file folders.

POLICIES AND PRACTICES FOR RETRIEVAL OF RECORDS:

These records are retrieved by the names of the grievant, complainant, plaintiff, litigant, or aggrieved individual, by the caption or forum of the related civil action or administrative proceeding, or by the name of the Commission attorney handling the matter. Affidavits, declarations, testimony, witness statements, and similar materials may be retrieved by the names of any concerned indivSAFEiduals.

POLICIES AND PRACTICES FOR RETENTION AND DISPOSAL OF RECORDS:

Records are retained in accordance with USITC records schedule N1-081-06-001, item C1: Litigation Case Files. Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

Access to this system of records is limited to persons who have a need to know the information for the performance of their official duties, such as Commission attorneys representing the Commission in administrative matters and Commission paralegals assisting in such matters. Paper records in this system are maintained in locked file cabinets in limited access areas within a building with restricted public access that is patrolled by guards. Both standard and electronic locks are used to restrict access. Access to the keys to the file cabinets is limited to persons whose official duties require access to the files. The electronic records in this system may only be accessed by authorized individuals through the use of safeguards such as passwords.

RECORD ACCESS PROCEDURES:

The records described herein are compiled in reasonable anticipation of a civil action or proceeding. Pursuant to section (d)(5) of the Privacy Act of 1974, as amended, 5 U.S.C. 552a(d)(5), an individual is precluded from access to such records.

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment at the Commission (if applicable);

3. Forum, filing/closing date, caption, and docket number of the action/proceeding involved (if available); and

4. Signature.

Individuals requesting amendment must comply with the Commission's Privacy Act regulations on verification of identity (19 CFR 201.25).

NOTIFICATION PROCEDURES:

Individuals wishing to inquire whether this system of records contains information about them should contact the Privacy Act Officer, Office of the Secretary, U.S. International Trade Commission, 500 E Street SW., Washington, DC 20436.

Individuals must furnish the following information for their records to be located and identified:

1. Full name(s);

2. Dates of employment at the Commission (if applicable);

3. Forum, filing/closing date, caption, and docket number of the action/proceeding involved (if available); and

4. Signature.

EXEMPTIONS PROMULGATED FOR THE SYSTEM:

The records described herein are compiled in reasonable anticipation of a civil action or proceeding. Pursuant to section (d)(5) of the Privacy Act of 1974, as amended, 5 U.S.C. 552a(d)(5), an individual is precluded from access to such records.

Information from other systems of records may be incorporated into this system (e.g., ITC-7, Personnel Security Investigative Files). To the extent that copies of exempt records from other systems of records are entered into this system, the Commission claims the same exemptions for those records that are claimed for the original primary system of records from which they originated.

HISTORY:

None.

ITC-20

SYSTEM NAME AND NUMBER:

ITC-20 Freedom of Information Act and Privacy Act Records.

SECURITY CLASSIFICATION:

Classified and Unclassified.

SYSTEM LOCATION:

Office of the Secretary, U.S. International Trade Commission, 500 E Street SW., Washington, DC 20436.

SYSTEM MANAGER(S):

For Freedom of Information Act (FOIA) records, Chief FOIA Officer, Office of the Secretary, U.S. International Trade Commission, 500 E Street SW., Washington, DC 20436. For Privacy Act records, Privacy Act Officer, Office of the Secretary, U.S. International Trade Commission, 500 E Street SW., Washington, DC 20436.

AUTHORITY FOR MAINTENANCE OF THE SYSTEM:

Authority for maintenance of the system includes the following with any revisions or amendments: the Freedom of Information Act, 5 U.S.C. 552, as amended; the Privacy Act of 1974, 5 U.S.C. 552a, as amended.

PURPOSE(S) OF THE SYSTEM:

These records are used to effectively monitor, process, and track individuals' requests and administrative appeals made under the provisions of the Freedom of Information Act (FOIA) and the Privacy Act. In addition, these records support agency participation in litigation arising from requests and appeals; assigning, processing, and tracking FOIA workloads; and, providing management information reports.

CATEGORIES OF INDIVIDUALS COVERED BY THE SYSTEM:

This system contains records and related correspondence on individuals who have submitted requests for information and administrative appeals under the provisions of the Freedom of Information Act (FOIA) (5 U.S.C. 552) or the Privacy Act (5 U.S.C. 552a), as well as individuals whose records have been the subject of a FOIA or Privacy Act request. Other individuals covered by the system include Commission staff assigned to process a request and staff that may have responsive records or are mentioned in such records.

CATEGORIES OF RECORDS IN THE SYSTEM:

The system contains correspondence and other documents related to FOIA and Privacy Act requests and administrative appeals. The information maintained by the system may include: (1) Records received, copied, created, or compiled during the search and processing of initial requests and administrative appeals; (2) fee schedules, cost calculations, and costs assessed for processing FOIA requests (disclosed FOIA records—cost can be incurred even for records that are not provided to requesters); (3) appeals, intra-agency or interagency memorandums, and correspondence with the requesters or entities who submitted the requests and appeals; (4) the Commission's responses and transferals to other agencies; (5) copies of records disclosed or withheld; (6) requesters' names, organizations, titles, addresses, emails, telephone numbers, fax numbers, Social Security numbers (which may be submitted with documentation or as proof of identification when requesting access to Privacy Act records); (7) information compiled on and about the parties who made written requests or appeals, including individuals on whose behalf such written requests or appeals were made; (8) FOIA tracking numbers; (9) descriptions of the types of requests or appeals, and dates the requests or appeals were received by the Commission; (10) and may include the requester's original Privacy Act/FOIA requests. The system also includes information on the Commission personnel involved in the processing of FOIA and/or Privacy Act requests and appeals (e.g., FOIA staff and/or Privacy Act staff, appeals officials, and members of the Office of General Counsel staff) who respond to requests or appeals and process any final dispositions. The system also covers records related to requests for OGIS assistance.

RECORD SOURCE CATEGORIES:

Information in the system comes from the individual(s) on whom the record is maintained, FOIA staff, and official Commission documents.

ROUTINE USES OF RECORDS MAINTAINED IN THE SYSTEM, INCLUDING CATEGORIES OF USERS AND PURPOSES OF SUCH USES:

General Routine uses A-D, F-K, and M-N apply to these systems.

POLICIES AND PRACTICE FOR STORAGE OF RECORDS:

The records are maintained in paper file folders stored in metal file cabinets and on internal Commission electronic information systems.

POLICIES AND PRACTICES FOR RETRIEVAL OF RECORDS:

These records are retrieved by the name of the individual and also by case file number.

POLICIES AND PRACTICES FOR RETENTION AND DISPOSAL OF RECORDS:

Records relating to the agency's implementation of FOIA and the Privacy Act are disposed of in accordance with the General Records Schedule (GRS) 14 issued by the National Archives and Records Administration. Records that have met required retention periods will be disposed of in accordance with NARA guidelines and Commission policy and procedures. Paper records are shredded, and records maintained on internal Commission electronic information systems are electronically removed. Commission electronic storage media that is no longer in service is purged in accordance with National Institute of Standards and Technology guidelines for media sanitization (NIST SP 800-88).

ADMINISTRATIVE, TECHNICAL, AND PHYSICAL SAFEGUARDS:

Access to the records is limited to persons whose official duties require access, such as the Chief FOIA Officer, the FOIA Liaison or a designee. Paper records in this system are stored in file cabinets located in secure areas that are either occupied by staff involved in processing FOIA and Privacy Act requests and administrative appeals or locked up during nonworking hours or whenever staff is not present in these areas in a building with restricted public access, patrolled by guards. Both standard and electronic locks may be used to restrict access. The paper records in this system are kept in limited access areas within the building. Electronic records in this system may only be accessed by authorized individuals through the use of safeguards such as User ID and passwords. Access to the systems records is limited to those staff members who are familiar with FOIA- and Privacy Act-related requests and who have a need to know. System managers are held responsible for safeguarding the records that are under their control.

RECORD ACCESS PROCEDURES:

Individuals wishing to request access to their records should contact the Privacy Act Officer, Office of the Secretary, U.S. International Trade Commission, 500 E Street SW., Washington, DC 20436.

Individuals must furnish the following information for their records to be located and identified:

1. Full name(s);

2. Dates of employment (if applicable); and

3. Signature

Individuals requesting access must comply with the Commission's Privacy Act regulations on verification of identity (19 CFR 201.25).

CONTESTING RECORD PROCEDURES:

Individuals wishing to request amendment of their records should contact the Privacy Act Officer, Office of the Secretary, U.S. International Trade Commission, 500 E Street SW., Washington, DC 20436.

Individuals must furnish the following information for their records to be located and identified:

1. Full name(s);

2. Dates of employment (if applicable); and

3. Signature

Individuals requesting amendment must comply with the Commission's Privacy Act regulations on verification of identity (19 CFR 201.25).

NOTIFICATION PROCEDURE:

Individuals wishing to inquire whether this system of records contains information about them should contact the Privacy Act Officer, Office of the Secretary, U.S. International Trade Commission, 500 E Street SW., Washington, DC 20436.

Individuals must furnish the following information for their records to be located and identified:

1. Full name(s);

2. Dates of employment (if applicable); and

3. Signature.

EXEMPTIONS CLAIMED FOR THE SYSTEM:

Pursuant to 5 U.S.C. 552a(k)(l) and (k)(2), this system of records is exempted from (c)(3), (d), (e)(1), (e)(4)(G)-(I) and (f) of the Privacy Act. These exemptions are established in the Commission rules at 19 CFR 201.32. During the course of monitoring, processing, and tracking individuals' requests and administrative appeals, exempt materials from other systems of records may be incorporated into this system. To the extent that copies of exempt records from other systems of records are entered into this system, the Commission claims the same exemptions for those records that are claimed for the original primary system of records from which they originated.

HISTORY:

None.

Appendix A: General Routine Uses Applicable to More Than One System of Records

A. Disclosure for Law Enforcement Purposes

When information indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, rule, regulation, or order issued pursuant thereto, if the information disclosed is relevant to any enforcement, regulatory, investigative or prosecutive responsibility of the receiving entity.

B. Disclosure Incident to Requesting Information

Information may be disclosed to any source from which additional information is requested (to the extent necessary to identify the individual, inform the source of the purpose(s) of the request, and to identify the type of information requested), when necessary to obtain information relevant to an agency decision concerning retention of an employee or other personnel action (other than hiring), retention of a security clearance, the letting of a contract, or the issuance or retention of a grant, or other benefit.

C. Disclosure to Requesting Agency

Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget

Information may be disclosed to the Office of Management and Budget at any stage in the legislative coordination and clearance process in connection with private relief legislation as set forth in OMB Circular No. A-19.

E. Disclosure to Congressional Offices

Information may be disclosed to a Congressional office from the record of an individual in response to an inquiry from the Congressional office made at the written request of the individual about whom the record is maintained. Disclosure will not be made until the Congressional office has furnished appropriate documentation of the individual's request, such as a copy of the individual's written request.

F. Disclosure for Use in Litigation

Information may be disclosed to and used by the Department of Justice, or in a proceeding before a court, adjudicative body, or other administrative body before which the Commission is authorized to appear, when:

1. The Commission, or any component thereof; or

2. Any employee of the Commission in his or her official capacity; or

3. Any employee of the Commission in his or her individual capacity where the Department of Justice or the Commission has agreed to represent the employee; or

4. The United States is a party to litigation or has an interest in such litigation, and the Commission determines that the records are both relevant and necessary to the litigation and the use of such records is deemed by the Commission to be for a purpose that is compatible with the purpose for which the records were collected.

G. Disclosure to the National Archives and General Services Administration

Information may be disclosed to the National Archives and Records Administration or General Services Administration for records management inspections conducted under 44 U.S.C. 2904 and 2906.

H. Disclosure to Contractors, Grantees, Etc.

Information may be disclosed to agency contractors, grantees, consultants, or volunteers who have been engaged to assist the agency in the performance of a contract, service, grant, cooperative agreement, job, or other activity for the Commission related to this system of records and who need to have access to the records in order to perform the activity for the Commission. This includes Federal agencies providing payroll, management, information security, or administrative services to the Commission. When appropriate, recipients shall be required to comply with the requirements of the Privacy Act of 1974 as provided in 5 U.S.C. 552a(m).

I. Disclosures for Administrative Claims, Complaints and Appeals

Information from this system of records may be disclosed to an authorized appeal grievance examiner, formal complaints examiner, equal employment opportunity investigator, arbitrator or other person properly engaged in investigation or settlement of an administrative grievance, complaint, claim, or appeal filed by an employee or former employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management

Information from this system of records may be disclosed to the Office of Personnel Management pursuant to that agency's responsibility for evaluation and oversight of Federal personnel management.

K. Disclosure in Connection With Litigation

Information from this system of records may be disclosed in connection with litigation or settlement discussions regarding claims by or against the Commission, including public filing with a court, to the extent that disclosure of the information is relevant and necessary to the litigation or discussions and except where court orders are otherwise required under section (b)(11) of the Privacy Act of 1974, 5 U.S.C. 552a(b)(11).

L. Disclosure to Labor Unions

Information from this system of records may be disclosed to provide information to officials of labor organizations when relevant and necessary to their duties of exclusive representation concerning personnel policies, practices, and matters affecting work conditions.

M. Disclosure in Connection With Breach of the System of Records

Disclosure may be made to appropriate agencies, entities, and persons when (1) the Commission suspects or has confirmed that there has been a breach of the system of records; (2) the Commission has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

N. Disclosure To Assist With Breach Response Efforts

Disclosure may be made to another Federal agency or Federal entity, when the Commission determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Appendix B: Government-Wide Systems of Records Applicable to the Commission

The Commission maintains some records covered by Government-wide systems of records notices published by other agencies. There may not be actual Commission files in all Government-wide systems. This list is based on Privacy Act Issuances, 2015 Compilation, available at https://www.gpo.gov/fdsys/browse/collection.action?collectionCode=PAI. Any later established Government-wide systems notices may also be applicable.

DOL/GOVT-1 Office of Workers' Compensation Programs, Federal Employees' Compensation Act File.

DOL/GOVT-2 Jobs Corps Student Records.

DOT/ALL-8 Parking and Transit Benefit System.

EEOC/GOVT-1 Equal Employment Opportunity in the Federal Government Complaint and Appeal Records.

EPA/GOVT-1 Emissions Inspection and Maintenance Records for Federal Employees Parking at Federal Parking Facilities.

EPA/GOVT-2 Federal Docket Management System (FDMS).

DHS/FEMA/GOVT-1 Federal Emergency Management Agency National Defense Executive Reserve System.

GSA/GOVT-2 Employment Under Commercial Activities Contracts.

GSA/GOVT-3 Travel Charge Card Program.

GSA/GOVT-4 Contracted Travel Services Program.

GSA/GOVT-5 Access Certificates for Electronic Services (ACES).

GSA/GOVT-6 GSA SmartPay Purchase Charge Card Program.

GSA/GOVT-7 HSPD-12 USAccess.

MSPB/GOVT-1 Appeals and Case Records.

OGE/GOVT-1 Executive Branch Personnel Public Financial Disclosure Reports and Other Name-Retrieved Ethics Program Records.

OGE/GOVT-2 Executive Branch Confidential Financial Disclosure Reports.

OPM/Central-1 Civil Service Retirement and Insurance Records.

OPM/Central-2 Complaints and Inquiries Records.

OPM/Central-4 Inspector General Investigations Case Files.

OPM/Central-5 Intergovernmental Personnel Act Assignment Records.

OPM/Central-6 Administrative Law Judge Application Records.

OPM/Central-7 Litigation and Claims Records.

OPM/Central-9 Personnel Investigations Records.

OPM/Central-10 Federal Executive Institute Program Participant Records.

OPM/Central-11 Presidential Management Fellows (PMF) Program Records.

OPM/Central-13 Executive Personnel Records.

OPM/Central-15 Health Claims Data Warehouse (HCDW).

OPM/Central-16 Health Claims Disputes External Review Services.

OPM/Central-X Federal Competency Assessment Tool.

OPM/Central-18 Federal Employees Health Benefits Program Claims Data Warehouse.

OPM/GOVT-1 General Personnel Records.

OPM/GOVT-2 Employee Performance File System Records.

OPM/GOVT-3 Records of Adverse Actions, Performance Based Reduction in Grade and Removal Actions, and Termination of Probationers.

OPM/GOVT-5 Recruiting, Examining, and Placement Records.

OPM/GOVT-6 Personnel Research and Test Validation Records.

OPM/GOVT-7 Applicant Race, Sex, National Origin, and Disability Status Records.

OPM/GOVT-9 File on Position Classification Appeals, Job Grading Appeals, Retained Grade or Pay Appeals, Fair Labor Standards Act (FLSA) Claims and Complaints, Federal Civilian Employee Compensation and Leave Claims, and Settlement of Accounts for Deceased Civilian Officers and Employees.

OPM/GOVT-10 Employee Medical File System Records.

OSC/GOVT-1 OSC Complaint, Litigation and Political Activity Files.

By order of the Commission.
Issued: September 21, 2017.
Lisa R. Barton,
Secretary to the Commission.

[FR Doc. 2017-20617 Filed 9-26-17; 8:45 am]

BILLING CODE 7020-02-P